DEPARTMENT OF COMMERCE

Water and Energy Conservation: U.S. Department of Commerce Services for Agribusiness

AGENCY: International Trade Administration, Department of Commerce.

ACTION: Notice of meeting.

SUMMARY: The U.S. Department of Commerce (DOC) will host a one-day conference for participants in the agribusiness industry during which senior U.S. government officials will inform private sector stakeholders, particularly manufacturers of irrigation and agricultural equipment and relevant alternative energy technology, food processors, and specialized service providers, of Commerce Department programs, services, and data that may be of assistance to them in reducing their consumption of water and energy. By lowering U.S. companies' costs associated with water and energy consumption, Commerce Department programs can assist American firms to be more competitive in domestic and international markets, as well as advance U.S. Government objectives with respect to sustainability and climate change.

A secondary purpose is to inform attendees of preparations for the United Nations Framework Convention on Climate Change (UNFCCC) negotiations and for them to advise U.S. officials on the impact a new UNFCCC agreement could have on their respective operations and on associated commercial opportunities.

The conference will be held in El Centro, California at the Barcelona Event Center.

DATES: September 17, 2009.

ADDRESSES: To register for the conferences, please visit the following Web site: http://www.ivedc.com/?pid=1188.

SUPPLEMENTARY INFORMATION:

Selection Criteria

Participation is on a first-come-first served basis. A $30 fee will be charged.

National Oceanic and Atmospheric Administration—The Mission of the National Oceanic and Atmospheric Administration (NOAA) is to understand and predict changes in Earth's environment and conserve and manage coastal and marine resources to meet our Nation's economic, social, and environmental needs.

A number of NOAA organizations offer data and services to assist agribusiness in responding to drought and the need to conserve water. These include the National Climatic Data Center (NCDC), which provides and ensures timely access to global environmental data from satellites and other sources, provides information services, and develops science products; the National Integrated Drought Information System (NIDIS), which provides authoritative, reliable information for farmers, forestry professionals, urban water managers, and other decision makers who need to prepare for and mitigate the effects of drought.; and the Western Regional Climate Center (WRCC), one of six such centers that produce and deliver useful climate data, information and knowledge in a timely manner for decision makers and other users at the local, state, regional and national levels.

International Trade Administration—The International Trade Administration (ITA) is charged with the mission of strengthening the competitiveness of U.S. industry, of promoting trade and investment, and of ensuring fair trade and compliance with trade laws and agreements. ITA creates opportunities for U.S. workers and firms by promoting international trade opportunities and by fostering a level playing field for American business.

ITA's Manufacturing and Services (MAS) unit is dedicated to strengthening the global competitiveness of U.S. industry, expanding its market access, and increasing exports. MAS undertakes industry economic and trade policy analysis, shapes U.S. trade policy, participates in trade negotiations, organizes trade capacity building programs, and evaluates the impact of domestic and international economic and regulatory policies on U.S. manufacturers and service industries.

The U.S. Commercial Service is ITA's trade promotion unit. Commercial Service trade specialists in 107 U.S. cities and more than 80 countries work with U.S. companies to help them sell American goods and services in global markets.

National Institute of Standards and Technology/Manufacturers Extension Partnership

The National Institute of Standards and Technology (NIST) is a non-regulatory federal agency within the U.S. Department of Commerce. NIST's mission is to promote U.S. innovation and industrial competitiveness by advancing measurement science, standards, and technology in ways that enhance economic security and improve our quality of life. NIST's Manufacturing Extension Partnership (MEP) is a national network of specialists who provide American companies with services and access to public and private resources to enhance growth, improve productivity, and expand capacity.

The United Nations Framework Convention on Climate Change (UNFCC)—The UNFCCC was signed in 1992 in Rio de Janeiro, Brazil, and entered into force on March 21, 1994. Currently, 192 states have ratified the Convention, including the United States. The treaty requires national inventories of greenhouse gas emissions from developed countries and encourages national action to stem greenhouse gas emissions and slow climate change. Developed nations also pledge to share technology and resources with developing nations.

Negotiations under the UNFCCC are underway to formulate a successor agreement to the convention's Kyoto Protocol. The discussions have the goal of concluding an agreement in Copenhagen this December. Potential impacts on U.S. industrial competitiveness will be discussed during the upcoming conferences include technology transfer, intellectual property, financing, and related commercial opportunities.

FOR FURTHER INFORMATION CONTACT: Padraic Sweeney, in the Office of Transportation and Machinery, at 202-482-5024, or by e-mail: Padraic.Sweeney@mail.doc.gov.

Dated: August 27, 2009.
Thomas Sobotta,
Acting Director, Office of Transportation and Machinery, U.S. Department of Commerce.

[FR Doc. E9-21210 Filed 9-1-09; 8:45 am]

BILLING CODE 3510-DR-P